DEPARTMENT OF COMMERCE

International Trade Administration

[A-821-802]

Notice of Extension of Time Limits of the Preliminary Results of Administrative Review of Agreement Suspending the Antidumping Investigation of Uranium from the Russian Federation, as Amended

AGENCY: Import Administration, International Trade Administration, Department of Commerce.

ACTION: Notice of Extension of Time Limits of the Preliminary Results of Administrative Review.

SUMMARY: The Department of Commerce (“the Department”) is extending the time limits by 120 days for the preliminary results of the administrative review of the Agreement Suspending the Antidumping Investigation of Uranium from the Russian Federation, as Amended.

EFFECTIVE DATE: April 22, 2002.

FOR FURTHER INFORMATION CONTACT: Lori Ellison or James Doyle; Import Administration, International Trade Administration, U.S. Department of Commerce, 14th and Constitution Avenue, N.W., Washington DC 20230; telephone: (202) 482-5811 or (202) 482-0159, respectively.

SUPPLEMENTARY INFORMATION:

Extension of Preliminary Results:

The Department published its notice of initiation of this review in the Federal Register on November 21, 2001 (66 FR 58432). The Department's preliminary results are currently due on July 3, 2002.

Section 751(a)(3)(A) of the Tariff Act of 1930 (“the Act”), as amended by the Uruguay Round Agreements Act, states that if it is not practicable to complete the review within the time specified, the administering authority may extend the 245-day period to issue its preliminary results by an additional 120 days. Because of the complex and novel issues presented by this review, it is impracticable for the Department to complete its analysis within the 245 day time frame provided under section 751(a)(3)(A) of the Act. Completion of the preliminary results within this period is impracticable for the following reasons: (1) This is the first administrative review of this suspension agreement, raising a number of issues of first impression; (2) the agreement has been in force since October 1992, making a particularly enormous quantity of information subject to review; (3) the agreement has been amended four times, thereby complicating the analysis; and (4) analysis of the Russian uranium industry will be complicated due to the complexity of uranium transactions in Russia and the high degree of integration between Russia's nuclear power and uranium production entities, and government.

The Department is therefore extending the preliminary results due date by 120 additional days in accordance with section 751(a)(3)(A) of the Act. The new due date for the preliminary results is October 31, 2002.

Dated: April 12, 2002
Joseph A. Spetrini,
Deputy Assistant Secretary for Import Administration, Group III.

[FR Doc. 02-9803 Filed 4-19-02; 8:45 am]

BILLING CODE 3510-DS-S